DEPARTMENT OF AGRICULTURE

Cooperative State Research, Education, and Extension Service

Notice of Intent To Revise and Request an Extension of a Currently Approved Information Collection

AGENCY: Cooperative State Research, Education, and Extension Service, USDA.

ACTION: Notice and request for comments.

SUMMARY: In accordance with the Paperwork Reduction Act of 1995 and Office of Management and Budget (OMB) implementing regulations this notice announces the Cooperative State Research, Education, and Extension Service's (CSREES) intention to revise and extend a currently approved information collection, Form CSREES-665 “Assurance of Compliance with the Department of Agriculture Regulations Assuring Civil Rights Compliance,” and Form CSREES-666, “Organizational Information.”

DATES: Comments on this notice must be received no later than July 3, 2000, to be assured of consideration.

ADDRESSES: Address all comments concerning this notice to Dr. Sally J. Rockey, Deputy Administrator; Competitive Research Grants and Awards Management; Cooperative State Research, Education, and Extension Service; U.S. Department of Agriculture; STOP 2240; 1400 Independence Avenue, S.W.; Washington, D.C. 20250-2240. E-mail: oep@reeusda.gov.

FOR FURTHER INFORMATION CONTACT: Sally J. Rockey, (202) 401-1761.

SUPPLEMENTARY INFORMATION: Titles: Assurance of Compliance with the Department of Agriculture Regulations Assuring Civil Rights Compliance and Organizational Information.

OMB Number: 0524-0026.

Expiration Date of Approval: April 30, 2000.

Type of Request: Revise and extend currently approved information collection.

Abstract: CSREES has primary responsibility for providing linkages between the Federal and State components of a broad-based, national agricultural research, extension, and education system. Focused on national issues, its purpose is to represent the Secretary of Agriculture and carry out the intent of Congress by administering formula and grant funds appropriated for agricultural research, extension, and education. Before awards can be made, certain information is required from applicants to assure compliance with the applicable civil rights laws and to effectively assess the potential recipient's capacity to manage Federal funds.

The following information will continue to be collected:

Form CSREES-665—Assurance of Compliance with the Department of Agriculture Regulations Assuring Civil Rights Compliance: By signing this form the organization certifies that it complies with the Civil Rights Act of 1964, as amended. The applicant agrees that it will offer its programs to all eligible persons without regard to race, color, national origin, gender, disability, age, political beliefs, religion, marital status, or familial status and that people will not be excluded from participation in, be denied the benefits of, or be otherwise subjected to discrimination under any program or activity for which the Applicant receives Federal financial assistance from the Department of Agriculture. This information is submitted to CSREES on a one-time basis.

Form CSREES-666—Organizational Information: Enables CSREES to determine that applicants recommended for awards will be responsible recipients of Federal funds. The information pertains to organizational management and financial matters of the potential grantee. This form and the documents which the applicant attaches to it provide CSREES with information such as the legal name of the grantee, certification that the organization has the legal authority to accept Federal funding, identification and signatures of the key officials of the organization, the organization's practices in regard to compensation rates and benefits of employees, insurance for equipment, subcontracting with other organizations, etc., as well as the financial condition of the organization. All of this information is considered by CSREES prior to award to determine that grantees are both managerially and fiscally responsible. This information is submitted to CSREES on a one-time basis. If sufficient changes occur within the organization, the grantee submits revised information.

Estimate of Burden: Public reporting burden for this collection of information is estimated to average .5 hours for Form CSREES-665 and 3.5 hours for Form CSREES-666. These averages were based on a survey of grantees who had recently been approved for awards. They were asked to give an estimate of time it took them to complete each form. This estimate was to include such things as: 1) Reviewing the instructions; 2) Searching existing data sources; 3) Gathering and maintaining the data needed; and 4) Actual completion of the forms. The average time it took each respondent was calculated from their responses.

Respondents: Individuals or households, business or other for profit, non-profit institutions and small businesses or organizations.

Estimated Number of Respondents: 150.

Estimated Number of Responses per Respondent: 1.

Estimated Total Annual Burden on Respondent: 600 hours.

Copies of this information collection can be obtained from Dr. Sally Rockey, Deputy Administrator, at (202) 401-1761.

Comments: Comments are invited on: (a) Whether the proposed collection of information is necessary for the proper performance of the functions of the agency, including whether the information, will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. Comments should be sent to the address stated in the preamble.

All responses to this notice will be summarized and included in the request for OMB approval. All comments will become a matter of public record.

Done at Washington, DC, this 20th day of April, 2000.
Charles W. Laughlin,
Administrator, Cooperative State Research, Education, and Extension Service.

[FR Doc. 00-10568 Filed 4-27-00; 8:45 am]

BILLING CODE 3410-02-P